NUCLEAR REGULATORY COMMISSION

[Docket Nos. 50-338 and 50-339]

Virginia Electric and Power Company; North Anna Power Station, Units 1 and 2; Environmental Assessment and Finding of No Significant Impact

The U.S. Nuclear Regulatory Commission (NRC) is considering issuance of an exemption from Title 10 of the Code of Federal Regulations (10 CFR) §§ 50.44 and 50.46, and 10 CFR part 50, appendix K, for Renewed Facility Operating License Nos. NPF-4 and NPF-7, issued to Virginia Electric and Power Company (the licensee), for operation of the North Anna Power Station, Units 1 and 2, located in Louisa County, Virginia. Pursuant to 10 CFR 51.21, the NRC is issuing this environmental assessment and finding of no significant impact.

Environmental Assessment

Identification of the Proposed Action

The proposed action would exempt the licensee from the requirements of 10 CFR 50.44, 10 CFR 50.46, and 10 CFR part 50, appendix K, as these requirements only allow the use of either Zircaloy or ZIRLO as fuel rod cladding material. The design of the Framatome Advanced Mark-BW fuel planned for use at North Anna, Units 1 and 2, utilizes the advanced zirconium-based alloy M5 for the fuel assembly structural tubing and grids, and fuel rod cladding.

By letter dated March 28, 2002, as supplemented by letters dated May 13, June 19, and November 15, 2002, and May 6, May 9, May 27, June 11 (2 letters), July 18, August 26, September 4, and September 5, 2003, the licensee requested an exemption from the requirements of 10 CFR 50.44 and 10 CFR 50.46. During the review of this exemption request, the NRC staff determined that an exemption from the requirements of 10 CFR part 50, appendix K, was also needed. As a result, the NRC staff has initiated the proposed exemption to 10 CFR part 50, appendix K on its own initiative.

The Need for the Proposed Action

The Commission's regulations in 10 CFR 50.44, 10 CFR 50.46, and 10 CFR part 50, appendix K, specifically refer to light-water reactors containing fuel consisting of uranium oxide pellets enclosed in Zircaloy or ZIRLO cladding. The proposed advanced zirconium-based cladding (designated as M5) is not the same chemical composition as Zircaloy or ZIRLO, and the licensee proposes to use Framatome Advanced Mark-BW fuel, which contains M5 cladding. Accordingly, the proposed exemption is needed for the licensee to use the Framatome Advanced Mark-BW fuel containing M5 material.

Environmental Impacts of the Proposed Action

The NRC has completed its evaluation of the proposed action and concludes that with regard to radiological impacts to the general public, the proposed action involves features located entirely within the restricted area as defined in 10 CFR part 20. The use of M5 fuel cladding will not result in a change in the operation or configuration of the facility. There will be no change in the level of controls or methodology used for processing radioactive effluents or handling solid radioactive waste. The NRC staff has also determined that the M5 fuel cladding will perform in service similarly to the current resident fuel. Accordingly, the proposed exemption will not impact the previously analyzed radiological consequences of design-basis accidents. In addition, the proposed action will not significantly increase the probability or consequences of accidents, no changes are being made in the types of effluents that may be released off site, and there is no significant increase in occupational or public radiation exposure. Therefore, there are no significant radiological environmental impacts associated with the proposed action.

With regard to potential non-radiological impacts, the proposed action does not have a potential to affect any historic sites. It does not affect non-radiological plant effluents and has no other environmental impact. Therefore, there are no significant non-radiological environmental impacts associated with the proposed action.

Accordingly, the NRC concludes that there are no significant environmental impacts associated with the proposed action.

Environmental Impacts of the Alternatives to the Proposed Action

As an alternative to the proposed action, the staff considered denial of the proposed action (i.e., the “no-action” alternative). Denial of the application would result in no change in current environmental impacts. The environmental impacts of the proposed action and the alternative action are similar.

Alternative Use of Resources

The action does not involve the use of any different resource than those previously considered in the Final Environmental Statement (FES) related to the operation of North Anna, Units 1 and 2, issued by the Commission in April 1973, and the associated addenda to the FES issued in November 1976 and August 1980.

Agencies and Persons Consulted

On June 20, 2003, the staff consulted with Mr. Les Foldesi of the Virginia Department of Radiological Health, regarding the environmental impact of the proposed action. The State official had no comments.

Finding of No Significant Impact

On the basis of the environmental assessment, the NRC concludes that the proposed action will not have a significant effect on the quality of the human environment. Accordingly, the NRC has determined not to prepare an environmental impact statement for the proposed action.

For further details with respect to the proposed action, see the licensee's letter dated March 28, 2002, and supplements dated May 13, June 19, and November 15, 2002, and May 6, May 9, May 27, June 11 (2 letters), July 18, August 26, September 4, and September 5, 2003. Documents may be examined, and/or copied for a fee, at the NRC's Public Document Room (PDR), located at One White Flint North, Public File Area O1 F21, 11555 Rockville Pike (first floor), Rockville, Maryland. Publicly available records will be accessible electronically from the Agencywide Documents Access and Management System (ADAMS) Public Electronic Reading Room on the Internet at the NRC Web site, http://www.nrc.gov/reading-rm/adams.html. Persons who do not have access to ADAMS or who encounter problems in accessing the documents located in ADAMS, should contact the NRC PDR Reference staff by telephone at 1-800-397-4209 or 301-415-4737, or by e-mail to pdr@nrc.gov.

Dated at Rockville, Maryland, this 15th day of September 2003.
For the Nuclear Regulatory Commission.
John A. Nakoski,
Chief, Section 1, Project Directorate II, Division of Licensing Project Management, Office of Nuclear Reactor Regulation

[FR Doc. 03-24093 Filed 9-18-03; 12:01 pm]

BILLING CODE 7590-01-P